INTERNATIONAL TRADE COMMISSION

[USITC SE-02-031]

Sunshine Act Meeting

AGENCY HOLDING THE MEETING: United States International Trade Commission.

TIME AND DATE: October 21, 2002 at 11 a.m.

PLACE: Room 101, 500 E Street SW., Washington, DC 20436, Telephone: (202) 205-2000.

STATUS: Open to the public.

MATTERS TO BE CONSIDERED: 1. Agenda for future meetings: none

2. Minutes

3. Ratification List

4. Inv. Nos. 731-TA-1014-1018 (Preliminary) (Polyvinyl Alcohol from China, Germany, Japan, Korea, and Singapore)—briefing and vote. (The Commission is currently scheduled to transmit its determination to the Secretary of Commerce on October 21, 2002; Commissioners' opinions are currently scheduled to be transmitted to the Secretary of Commerce on or before October 28, 2002.)

5. Outstanding action jackets: none.

In accordance with Commission policy, subject matter listed above, not disposed of at the scheduled meeting, may be carried over to the agenda of the following meeting.

By order of the Commission:
Issued: October 10, 2002.
Marilyn R. Abbott,
Secretary to the Commission.

[FR Doc. 02-26332 Filed 10-10-02; 2:36 pm]

BILLING CODE 7020-02-P